DEPARTMENT OF THE TREASURY

[Treasury Order Number 150-39]

Delegation of Authority to Act as Competent or Taxation Authority for Possessions of the United States

July 17, 2002.

1. Purpose. The purpose of this Order is to formalize the authority of the Commissioner of Internal Revenue to act as the competent authority or taxation authority under tax coordination agreements and tax implementation agreements with the possessions of the United States, with the responsibility for coordination and liaison of tax administration issues involving the possessions of the United States.

2. Delegation. The authority of the Secretary of the Treasury to act as competent authority or taxation authority with regard to tax implementation and coordination agreements that are entered into with the possessions of the United States is hereby delegated to the Commissioner of Internal Revenue. The authority of the Commissioner of Internal Revenue to provide for the administration of the United States internal revenue laws in the possessions of the United States (including administration of the aforesaid tax agreements) remains in effect.

3. Redelegation. The Commissioner may redelegate this authority in writing to any officer or employee of the Internal Revenue Service.

4. Ratification. To the extent that any action heretofore taken by the Commissioner of Internal Revenue or his delegate consistent with the delegation set forth in this Order may require ratification, such action is hereby affirmed and ratified.

Authorities

a. IRC § 7803(a)(2).

b. Subtitle G of Title XII of the Tax Reform Act of 1986, sections 1271 to 1277 of Pub. Law 99-514, 100 Stat. 2085, 2591-2602.

6. Office of Primary Interest. Commissioner of Internal Revenue.

Paul H. O'Neill,
Secretary of the Treasury.

[FR Doc. 02-21259 Filed 8-20-02; 8:45 am]

BILLING CODE 4810-25-P